SECURITIES AND EXCHANGE COMMISSION

[Release No. 34-86539; File No. SR-ICEEU-2019-012]

Self-Regulatory Organizations; ICE Clear Europe Limited; Notice of Filing of Partial Amendment No. 1 to Proposed Rule Change To Revise the ICE Clear Europe Treasury and Banking Services Policy, Liquidity Management Procedures, Investment Management Procedures and Unsecured Credit Limits Procedures

August 1, 2019.

On July 5, 2019, ICE Clear Europe Limited (“ICE Clear Europe”) filed with the Securities and Exchange Commission (“Commission”), pursuant to Section 19(b)(1) of the Securities Exchange Act of 1934 (“Act”) ¹ and Rule 19b-4 thereunder,² proposed rule change SR-ICEEU 2019-012 to adopt a new Treasury and Banking Services Policy, new Liquidity Management Procedures, new Investment Management Procedures, and revised Unsecured Credit Limits Procedures. The proposed rule change was published for comment in the Federal Register on July 25, 2019.³ On July 30, 2019, ICE Clear Europe filed Partial Amendment No. 1 to the proposed rule change.

¹ 15 U.S.C. 78s(b)(1).

² 17 CFR 240.19b-4.

³ Securities Exchange Act Release No. 34-86413 (July 19, 2019), 84 FR 35892 (July 25, 2019) (SR-ICEEU-2019-012).

Pursuant to Section 19(b)(1) of the Act ⁴ and Rule 19b-4 thereunder ⁵ the Commission is publishing notice of this Partial Amendment No.1 to the proposed rule change as described in Item I below. The Commission is publishing this notice to solicit comment on Partial Amendment No. 1 from interested persons.

⁴ 15 U.S.C. 78s(b)(1).

⁵ 17 CFR 240.19b-4.

I. Clearing Agency's Statement of the Terms of Substance of Partial Amendments to the Proposed Rule Change

ICE Clear Europe submits this partial amendment (“Amendment No. 1”) to its previously submitted rule changes to adopt a new Treasury and Banking Services Policy, new Liquidity Management Procedures and Investment Management Procedures and revised Unsecured Credit Limits Procedures (the “Initial Filing”). Amendment No. 1 is intended to amend a defined term in the confidential Unsecured Credit Limits Procedures in Exhibit 5. The proposed rule changes in the Initial Filing are otherwise unchanged.

II. Date of Effectiveness of the Proposed Rule Change and Timing for Commission Action

Within 45 days of the date of publication of this notice in the Federal Register or within such longer period up to 90 days (i) as the Commission may designate if it finds such longer period to be appropriate and publishes its reasons for so finding or (ii) as to which the self-regulatory organization consents, the Commission will:

(A) By order approve or disapprove the proposed rule change or

(B) institute proceedings to determine whether the proposed rule change should be disapproved.

III. Solicitation of Comments

Interested persons are invited to submit written data, views, and arguments concerning the foregoing, including whether the proposed rule change is consistent with the Act. Comments may be submitted by any of the following methods:

Electronic Comments

• Use the Commission's internet comment form (http://www.sec.gov/rules/sro.shtml) or

• Send an email to rule-comments@sec.gov. Please include File Number SR-ICEEU-2019-012 on the subject line.

Paper Comments

• Send paper comments in triplicate to Secretary, Securities and Exchange Commission, 100 F Street NE, Washington, DC 20549-1090.

All submissions should refer to File Number SR-ICEEU-2019-012. This file number should be included on the subject line if email is used. To help the Commission process and review your comments more efficiently, please use only one method. The Commission will post all comments on the Commission's internet website (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street NE, Washington, DC 20549, on official business days between the hours of 10:00 a.m. and 3:00 p.m. Copies of such filings will also be available for inspection and copying at the principal office of ICE Clear Europe and on ICE Clear Europe's website at https://www.theice.com/clear-europe/regulation.

All comments received will be posted without change. Persons submitting comments are cautioned that we do not redact or edit personal identifying information from comment submissions. You should submit only information that you wish to make available publicly. All submissions should refer to File Number SR-ICEEU-2019-012 and should be submitted on or before August 28, 2019.

For the Commission, by the Division of Trading and Markets, pursuant to delegated authority.⁶
⁶ 17 CFR 200.30-3(a)(12).
Jill M. Peterson,
Assistant Secretary.

[FR Doc. 2019-16853 Filed 8-6-19; 8:45 am]

BILLING CODE 8011-01-P